NUCLEAR REGULATORY COMMISSION

Advisory Committee on Reactor Safeguards: Subcommittee Meeting on Planning and Procedures; Notice of Meeting

The ACRS Subcommittee on Planning and Procedures will hold a meeting on January 24-26, 2002, Hawthorn Suites, 6435 Westwood Blvd., Orlando, Florida, in Conference Room Magnolia A.

The entire meeting will be open to public attendance, with the exception of a portion that may be closed pursuant to 5 U.S.C. 552b(c) (2) and (6) to discuss organizational and personnel matters that relate solely to internal personnel rules and practices of ACRS, and information the release of which would constitute a clearly unwarranted invasion of personal privacy.

The agenda for the subject meeting shall be as follows:

Thursday, January 24, 2002—8:30 a.m. until the conclusion of business

The Subcommittee will discuss matters related to future plant designs, including: regulatory challenges associated with the licensing of future plant designs (e.g., Pebble Bed Modular Reactor and Gas Turbine Modular Helium Reactor); use of PRA and defense-in-depth concept for advanced reactor designs; and issues related to Westinghouse AP1000 design. Also, it will discuss the NRC Safety Research Program, including proposed advanced reactor research plan, new areas of research, and draft ACRS report to the Commission on the NRC Safety Research Program.

Friday, January 25, 2002—8:30 a.m. until the conclusion of business

The Subcommittee will discuss the use of formal decision analysis and the role of SAPHIRE Code in the risk-informed regulatory structure. Also, it will discuss matters associated with core power uprates, including: use of risk information in evaluating power uprate applications; criteria to be used by the ACRS in endorsing power uprates including PWR power uprates expected in the future; and lessons learned from the review of power uprate applications.

Saturday, January 26, 2002—8:30 a.m.—12:30 p.m.

The Subcommittee will discuss the significance determination process (SDP), including: need for an SDP based on low-power and shutdown operations PRAs or other shutdown management tools; peer review of SPAR models and SDP worksheets; and thresholds for performance indicators. Also, the Subcommittee will discuss adequacy of the process for conducting ACRS business.

The purpose of this meeting is to gather information, analyze relevant issues and facts, and to formulate proposed positions and actions, as appropriate, for deliberation by the full Committee.

Oral statements may be presented by members of the public with the concurrence of the Subcommittee Chairman; written statements will be accepted and made available to the Committee.

Electronic recordings will be permitted only during those portions of the meeting that are open to the public, and questions may be asked only by members of the Subcommittee, its consultants, and staff. Persons desiring to make oral statements should notify the Designated Federal Official named below five days prior to the meeting, if possible, so that appropriate arrangements can be made.

Further information regarding topics to be discussed, the scheduling of sessions open to the public, whether the meeting has been canceled or rescheduled, the Chairman's ruling on requests for the opportunity to present oral statements, and the time allotted therefor can be obtained by contacting the Designed Federal Official, Dr. John T. Larkins (telephone: 301/415-7360) between 7:30 a.m. and 4:15 p.m. (EST). Persons planning to attend this meeting are urged to contact the above named individual one or two working days prior to the meeting to be advised of any changes in schedule, etc., that may have occurred.

Dated: January 8, 2002.
Sher Bahadur,
Associate Director for Technical Support, ACRS/ACNW.

[FR Doc. 02-846 Filed 1-11-02; 8:45 am]

BILLING CODE 7590-01-P